ENVIRONMENTAL PROTECTION AGENCY

[EPA-HQ-OPP-2017-0602; FRL-9972-27]

FIFRA Scientific Advisory Panel; Nominations to the FIFRA Scientific Advisory Panel; Request for Comments

AGENCY: Environmental Protection Agency (EPA).

ACTION: Notice.

SUMMARY: This notice provides the names, addresses, and professional affiliations of persons recently nominated by the National Institutes of Health (NIH) and the National Science Foundation (NSF) to serve on the Scientific Advisory Panel (SAP) established under section 25(d) of the Federal Insecticide, Fungicide, and Rodenticide Act (FIFRA). Brief biographical sketches for the nominees are posted on the EPA website at https://www.epa.gov/sap. The Panel was created on November 28, 1975, and converted from a discretionary to a statutory Panel by amendment to FIFRA, dated October 25, 1988. The Agency, at this time, anticipates selecting four new members to serve on the panel as a result of membership terms that will expire in 2018. Public comments on the current nominations are invited, as these comments will be used to assist the Agency in selecting the new chartered Panel members.

DATES: Comments identified by docket ID number EPA-HQ-OPP-2017-0602, must be received on or before February 26, 2018.

ADDRESSES: Submit your comments, identified by docket identification (ID) number EPA-HQ-OPP-2017-0602, by one of the following methods:

• Federal eRulemaking Portal: https://www.regulations.gov. Follow the online instructions for submitting comments. Do not electronically submit any information you consider to be Confidential Business Information (CBI) or information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/contacts.html.

FOR FURTHER INFORMATION CONTACT: Tamue L. Gibson, M.S., DFO, Office of Science Coordination and Policy (7201M), Environmental Protection Agency, 1200 Pennsylvania Ave, NW, Washington, DC 20460-0001; telephone number: (202) 564-7642; email address: gibson.tamue@epa.gov.

SUPPLEMENTARY INFORMATION:

I. General Information

A. Does this action apply to me?

This action is directed to the public in general. This action may, however, be of interest to persons who are or may be required to conduct testing of chemical substances under the Federal Food, Drug, and Cosmetic Act (FFDCA) and FIFRA. Since other entities may also be interested, the Agency has not attempted to describe all the specific entities that may be affected by this action. If you have any questions regarding the applicability of this action to a particular entity, consult the DFO listed under FOR FURTHER INFORMATION CONTACT.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see the commenting tips at https://www.epa.gov/dockets/comments.html.

II. Background

Purpose of FIFRA SAP

The FIFRA SAP serves as a scientific peer review mechanism of EPA's Office of Chemical Safety and Pollution Prevention (OCSPP) and is structured to provide independent scientific advice, information and recommendations to the EPA Administrator on pesticides and pesticide-related issues as to the impact of regulatory actions on health and the environment. FIFRA SAP is a Federal advisory committee established in 1975 under FIFRA that operates in accordance with requirements of the Federal Advisory Committee Act (5 U.S.C. Appendix 2, FIFRA Statutory Requirement). The FIFRA SAP is composed of a permanent panel consisting of seven members who are appointed by the EPA Administrator from nominees provided by the NIH and the NSF. FIFRA established a Science Review Board (SRB) consisting of at least 60 scientists who are available to FIFRA SAP on an ad hoc basis to assist in reviews conducted by FIFRA SAP. As a scientific peer review mechanism, FIFRA SAP provides comments, evaluations, and recommendations to improve the effectiveness and quality of analyses made by Agency scientists. Members of FIFRA SAP are scientists who have sufficient professional qualifications, including training and experience, to provide expert advice and recommendations to the Agency.

The Agency, at this time, anticipates selecting four new members to serve on the panel as a result of membership terms that will expire in 2018. The Agency requested that NIH and NSF nominate experts for selection from the fields of human health risk assessment, including expertise in human exposure and physiologically-based pharmacokinetic (PBPK) modeling, and expertise in toxicology and veterinary pathology; specifically, carcinogenicity, reproductive and developmental toxicology, and neurotoxicity. The Agency also noted that experts with specific experience in risk assessment and dose response analysis are preferred.

Nominees should be well published and current in their fields of expertise. FIFRA further stipulates that the Agency publish the name, address and professional affiliation of the nominees in the Federal Register.

III. Charter

A Charter for the FIFRA Scientific Advisory Panel, dated October 17, 2016, was issued in accordance with the requirements of the Federal Advisory Committee Act, Public Law 92-463, 86 Stat. 770 (5 U.S.C. Appl. I).

A. Qualifications of Members

Members are scientists who have sufficient professional qualifications, including training and experience, to provide expert comments on the impact of pesticides on human health and the environment. No persons shall be ineligible to serve on the Panel by reason of their membership on any other advisory committee to a Federal department or agency, or their employment by a Federal department or agency (except the EPA). The Administrator appoints individuals to serve on the Panel for staggered terms of up to 3 years. Panel members are subject to the provisions of 5 CFR part 2635, Standards of Ethical Conduct for Employees of the Executive Branch, which include rules regarding conflicts of interest. Each nominee selected by the Administrator, before being formally appointed, is required to submit a confidential statement of employment and financial interest, which shall fully disclose, among other financial interests, the nominee's sources of research support, if any.

In accordance with section 25(d)(1) of FIFRA, the Administrator shall require nominees to the Panel to furnish information concerning their professional qualifications, including educational background, employment history, and scientific publications.

B. Applicability of Existing Regulations

With respect to the requirements of section 25(d) of FIFRA that the Administrator promulgate regulations regarding conflicts of interest, the Charter provides that EPA's existing regulations applicable to Special Government Employees, which include advisory committee members, will apply to the members of the Scientific Advisory Panel. These regulations appear in 5 CFR part 2635. In addition, the Charter provides for open meetings with opportunities for public participation.

C. Process of Obtaining Nominees

In accordance with the provisions of section 25(d) of FIFRA, EPA on April 17, 2017, requested that the NIH and the NSF nominate scientists to fill vacancies occurring on the Panel. The Agency requested nominations of experts in the fields of human health risk assessment, including expertise in human exposure and physiologically-based pharmacokinetic (PBPK) modeling, and expertise in toxicology and veterinary pathology; specifically, carcinogenicity, reproductive and developmental toxicology, and neurotoxicity. The Agency also noted that experts with specific experience with risk assessment and dose response analysis are preferred. NIH and NSF responded providing the Agency with a total of 37 nominees. Copies of the responses, with the listed nominees, are available in the public docket referenced in unit I.B.1. of this notice. Of the 37 nominees, 17 are interested and available to actively participate in SAP meetings (see Section IV. Nominees). One nominee, Dr. David Jett of NIH, is currently serving as a member of the FIFRA SAP and therefore is not listed. Of the current 37 nominees, the following 19 individuals are not available:

1. John Balmes, M.D., University of California-Berkeley, San Francisco, CA

2. David Bellinger, Ph.D., Harvard Medical School, Boston, MA

3. Nora Besansky, Ph.D., University of Notre Dame, Notre Dame, IN

4. Kim Brouwer, Pharm.D., Ph.D., University of North Carolina at Chapel Hill, Chapel Hill, NC

5. David Crews, Ph.D., University of Texas at Austin, Austin, TX

6. David Eaton, Ph.D., University of Washington, Seattle, WA

7. Mary Beth Genter, Ph.D., University of Cincinnati College of Medicine, Cincinnati, OH

8. Robyn Gilden, Ph.D., RN, University of Maryland School of Nursing, Baltimore, MD

9. John Groopman, Ph.D., Johns Hopkins University, Baltimore, MD

10. Ramesh Gupta, D.V.M., Ph.D., D.A.B.T., Murray State University, Murray, KY

11. Bruce Hammock, Ph.D., University of California-Davis, Davis, CA

12. Paul Howard, Ph.D., (Retired), Food and Drug Administration, Chardon, OH

13. Germaine Buck Louis, Ph.D. M.S., Eunice Kennedy Shriver National Institute of Child Health and Human Development, Bethesda, MD

14. Melissa Perry, Sc.D., M.H.S., George Washington University, Washington, DC

15. Lisa Peterson, Ph.D., University of Minnesota, Minneapolis, MN

16. Frank Raushel, Ph.D., Texas A&M University, College Station, TX

17. Rick Relyea, Ph.D., Rensselaer Polytechnic Institute, Troy, NY

18. Justin Teeguarden, Ph.D., Pacific Northwest Laboratories, Richland, WA

19. Sarah Woodley, Ph.D., Duquesne University, Pittsburg, PA

IV. Nominees

Following are the names, addresses, and professional affiliations of current nominees being considered for membership on the FIFRA SAP. The Agency anticipates selecting four individuals to fill vacancies occurring in 2018. Brief biographical sketches for the nominees are posted on the EPA website at https://www.epa.gov/sap.

1. Jonathan W. Boyd, Ph.D., West Virginia University, Morgantown, WV

2. Robert E. Chapin, Ph.D., Pfizer Global Research and Development, Groton, CT

3. Weihsueh A. Chiu, Ph.D., Texas A&M University, College Station, TX

4. George B. Corcoran, Ph.D., Wayne State University, Detroit, MI

5. Nikolay M. Filipov, Ph.D., University of Georgia, Athens, GA

6. Paul M. Foster, Ph.D., National Institutes of Health, Durham, NC

7. John T. Greenamyre, M.D., Ph.D., University of Pittsburg, Pittsburg, PA

8. William C. Griffith, Ph.D., University of Washington, Seattle, WA

9. William K. Karasov, Ph.D., University of Wisconsin-Madison, Madison, WI

10. Francisco J. Leyva, M.D., Ph.D., Sc.M., National Institutes of Health, Rockville, MD

11. Michael A. Malfatti, Ph.D., Lawrence Livermore National Laboratory, Livermore, CA

12. Daniel K. Nomura, Ph.D., University of California-Berkeley, Berkeley, CA

13. David Peden, Ph.D., University of North Carolina School of Medicine, Chapel Hill, NC

14. Beate R. Ritz, M.D., Ph.D., University of California-Los Angeles, Los Angeles, CA

15. Christopher P. Weis, Ph.D., National Institutes of Health, Bethesda, MD

16. Clifford P. Weisel, Ph.D., Rutgers University, Piscataway, NJ

17. Raymond S.H. Yang, Ph.D., Colorado State University, Fort Collins, CO

Authority: 7 U.S.C. 136 et seq.; 21 U.S.C. 301 et seq.

Dated: January 11, 2018.
Stanley Barone Jr.,
Acting Director, Office of Science Coordination and Policy.

[FR Doc. 2018-01496 Filed 1-25-18; 8:45 am]

BILLING CODE 6560-50-P